DEPARTMENT OF COMMERCE

United States Patent and Trademark Office

Reopening of the Time Period for Acceptance of Comments on Issues Related to Policies and Agenda for the National Intellectual Property Law Enforcement Coordination Council

AGENCY: U.S. Patent and Trademark Office, Co-Chair, National Intellectual Property Law Enforcement Coordination Council.

ACTION: Reopening of time period for acceptance of comments.

SUMMARY: On Monday, June 5, 2000, the members of the National Intellectual Property Law Enforcement Coordination Council (the Council) published a Notice seeking public comment on issues associated with the Council's mission (65 F.R. 35611 (2000)). Interested members of the public were invited to present written comments on the topics outlined in the Supplementary Information section of the Notice by June 20, 2000. This notice reopens the time period for submission of comments. Comments will be accepted through July 7, 2000.

DATES: All comments are due by July 7, 2000.

ADDRESSES: Persons wishing to offer written comments should address those comments to Under Secretary of Commerce for Intellectual Property and Director of the United States Patent and Trademark Office, Box 4, Washington, DC 20231, marked to the attention of Elizabeth Shaw. Comments may also be submitted by facsimile transmission to (703) 305-7575, or by electronic mail through the Internet to elizabeth.shaw2@uspto.gov. All comments will be maintained for public inspection in Room 902, Crystal Park II, 2121 Crystal Drive, Arlington, Virginia.

FOR FURTHER INFORMATION CONTACT: Elizabeth Shaw by telephone at (703) 305-1033, by fax at (703) 305-7575, or by mail marked to her attention and addressed to Under Secretary of Commerce for Intellectual Property and Director of the United States Patent and Trademark Office, Box 4, Washington, DC 20231.

Dated: June 22, 2000.
Albin F. Drost,
Acting Solicitor.

[FR Doc. 00-16213 Filed 6-26-00; 8:45 am]

BILLING CODE 3510-16-U